DEPARTMENT OF ENERGY

Federal Energy Regulatory Commission

[Project No. 3633-044]

KC Brighton LLC; Notice of Intent To Prepare an Environmental Assessment

On December 29, 2022, KC Brighton LLC (licensee) filed an application for the surrender of its license for the Brighton Hydroelectric Project No. 3633. The project is located on the Patuxent River in Howard and Montgomery counties, Maryland. The project does not occupy Federal lands.

The licensee proposes to surrender its license after consultation during the relicensing process revealed that the costs of relicensing and anticipated mitigation measures would render the project uneconomic. The licensee proposes to remove all generating equipment, including the equipment diverging from the main penstocks including the turbine, generator, gate valve, and elbow for each unit. The electrical conduit in the powerhouse, the motor controllers, and the generation cables up to the interconnection point would also be removed. Surrender activities would be confined to the powerhouse. No changes to the dam, which is owned by Washington Suburban Sanitary Commission (WSSC), are proposed. The primary use of WSSC's dam and reservoir is to provide a water source to surrounding counties. No changes to this water supply are proposed as part of surrender. The licensee is not proposing any ground disturbing activities or any changes to the environment in the project area.

Commission staff public noticed the application on December 20, 2023, and solicited comments, motions to intervene, and protests, with the comment period ending on January 19, 2024. In response to the Commission's notice, the Potomac Patuxent Chapter of Trout Unlimited filed comments. The WSSC, which owns the dam, filed a Motion to Intervene.

This notice identifies Commission staff's intention to prepare an environmental assessment (EA) for the project.¹ Commission staff plans to issue an EA by May 9, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1736780205. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Kelly Fitzpatrick at 202-502-8435 or kelly.fitzpatrick@ferc.gov.

Dated: January 29, 2025.
Debbie-Anne A. Reese,
Secretary.

[FR Doc. 2025-02171 Filed 2-3-25; 8:45 am]

BILLING CODE 6717-01-P